DEPARTMENT OF AGRICULTURE

Food and Nutrition Service

Value-Pass-Through of USDA Donated Commodities in Food Service Management Company Fixed-Rate-Per-Meal Contracts

AGENCY: Food and Nutrition Service, USDA.

ACTION: Notice of meeting.

SUMMARY: The Food and Nutrition Service, Food Distribution Division, will hold a meeting to discuss methods of value-pass-through of USDA donated commodities in food service management company fixed-rate-per-meal contracts in the National School Lunch Program. The purpose of this meeting is to offer State agencies, school food authorities, advocacy groups, food service management companies, and other interested parties the opportunity for dialogue prior to proposed rulemaking.

Date and Time: Thursday, October 24, 2002, 1 p.m. to 5 p.m.

ADDRESSES: Food and Nutrition Service, 3101 Park Center Drive, Conference Room 204-B, Alexandria, Virginia 22302.

SUPPLEMENTARY INFORMATION: In April 2002, the USDA Office of Inspector General issued Audit Report Number 27601-0027-CH titled “National School Lunch Program—Food Service Management Companies,” which found that, in the States reviewed by the Office of Inspector General, many school food authorities that maintained fixed-rate-per-meal contracts did not receive proper credit for USDA donated commodities. Federal regulations require that any USDA donated commodities received by a school food authority and made available to a food service management company shall be used solely for the school food authority's food service operation and that the full value of all USDA donated food must accrue to the benefit of the school food authority.

The discussion topics of this meeting will be limited to (a) the Office of Inspector General's recommended approach for crediting USDA donated commodities, (b) value-pass-through methods currently used by food service management companies and school food authorities in food service management contracts, and (c) proposals for the development of new specific procedures for crediting USDA donated commodities.

For those unable to attend the meeting or those who attend and have additional comments on the discussion topics, the contact person named below will accept written statements before the meeting and until Friday, November 8, 2002.

FOR FURTHER INFORMATION CONTACT: Suzanne Rigby, Branch Chief, Schools and Institutions Branch, Food Distribution Division, Food and Nutrition Service, USDA, 3101 Park Center Drive, Room 500, Alexandria, Virginia 22302,-(703) 305—2644. To confirm attendance, please contact Sherry Thackeray at (703) 305-2652 or e-mail Sherry.Thackeray@fns.usda.gov. Confirmation of attendance is encouraged, but not mandatory for participation in this meeting. Office of Inspector General audit report is available on the Office of Inspector General's Internet Web site at http://www.usda.gov/oig/webdocs/27601-27-Ch.pdf. A copy may also be requested by contacting Sherry Thackeray.

Dated: October 2, 2002.
Eric M. Bost,
Under Secretary, Food, Nutrition, and Consumer Services.

[FR Doc. 02-25581 Filed 10-7-02; 8:45 am]

BILLING CODE 3410-30-P